DEPARTMENT OF HEALTH AND HUMAN SERVICES

Centers for Medicare & Medicaid Services

42 CFR Parts 405, 412, 413, and 485

[CMS-1655-CN]

RIN 0938-AS77

Medicare Program; Hospital Inpatient Prospective Payment Systems for Acute Care Hospitals and the Long-Term Care Hospital Prospective Payment System and Proposed Policy Changes and Fiscal Year 2017 Rates; Quality Reporting Requirements for Specific Providers; Graduate Medical Education; Hospital Notification Procedures Applicable to Beneficiaries Receiving Observation Services; and Technical Changes Relating to Costs to Organizations and Medicare Cost Reports; Correction

AGENCY: Centers for Medicare & Medicaid Services (CMS), HHS.

ACTION: Proposed rule; correction.

SUMMARY: This document corrects technical and typographical errors in the proposed rule that appeared in the Federal Register on April 27, 2016 titled “Medicare Program; Hospital Inpatient Prospective Payment Systems for Acute Care Hospitals and the Long-Term Care Hospital Prospective Payment System and Proposed Policy Changes and Fiscal Year 2017 Rates; Quality Reporting Requirements for Specific Providers; Graduate Medical Education; Hospital Notification Procedures Applicable to Beneficiaries Receiving Observation Services; and Technical Changes Relating to Costs to Organizations and Medicare Cost Reports.”

FOR FURTHER INFORMATION CONTACT: Charles Padgett, (410) 786-2811.

SUPPLEMENTARY INFORMATION:

I. Background

In FR Doc. 2016-09120 of April 27, 2016 (81 FR 24946), there were a number of technical errors that are identified and corrected in the Correction of Errors section of this correcting document.

II. Summary of Errors

A. Summary of Errors in the Preamble

On pages 24958, 24959, and 25255 we made an inadvertent technical and typographical errors in referencing several quality measure titles.

On page 25121, we erroneously referenced the incorrect date for the end of the FY 2019 Hospital-acquired condition (HAC) Reduction Program performance period.

On page 25173, we made an error in referencing the Long-Term Care Hospital Quality Reporting Program (LTCH QRP).

On page 25223, we made an error in specifying the units for the dollar amount in reference to expenditures. We also inadvertently omitted full reference to “Agency for Healthcare Research and Quality: Prevention Quality Indicators Overview. 2008” in the footnote.

On page 25247, we erroneously referenced incorrect year regarding the Spring version of the Clinical Quality Measure (CQM) electronic specifications.

B. Summary of Errors in the Addendum

On page 25307, in table titled “Estimated Proportion of Hospitals in the Worst-Performing Quartile (75th Percentile) of the Total HAC Score for the FY 2017 HAC Reduction Program”, we made technical errors in the entries for the “By Teaching Status” hospital characteristic.

On page 25319, we made an inadvertent technical and typographical errors in referencing several quality measure titles.

On pages 25322, we made an error in referencing the Long-Term Care Hospital Quality Reporting Program (LTCH QRP).

IV. Correction of Errors

In FR Doc. 2016-09120 of April 27, 2016 (81 FR 24946), we are making the following corrections:

A. Corrections of Errors in the Preamble

1. On page 24958, first column, last paragraph, line 11, the phrase “PAC LTCH QRP.” is corrected to read “LTCH QRP.”.

2. On page 24959, third column, last paragraph, line 8, the phrase “Issues-PAC” is corrected to read “Issues-PAC LTCH QRP”.

3. On page 25121, third column, first full paragraph, line 18, the phrase “September 30” is corrected to read “June 30”.

4. On page 25173, third column, fifth bulleted paragraph, lines 3 and 4, the phrase “(LTCH QRP) (also referred to as the LTCHQR Program);” is corrected to read as “(LTCH QRP);”.

5. On page 25223:

a. Second column, first full paragraph, line 29, the figure “$4.3B” is corrected as “$4.3 billion”.

b. Third column, third footnote (footnote 232), line 1, the phrase “National Quality Forum:” is corrected to read “Agency for Healthcare Research and Quality:”.

6. On page 25247, first column, sixth paragraph, line 19, the phrase “Spring 2017” is corrected to read “Spring 2016”.

7. On page 25255, first column, first partial paragraph, lines 7 through 14, the sentence “We refer readers to section VIII.C.9.d. of the preamble of this this proposed rule for further details on the proposed expansion of data collection for this measures (NQF #0680), including data collection timeframes and associated submission deadlines.” is corrected to read “We refer readers to section VIII.C.9.d. of the preamble of this proposed rule for further details on the proposed expansion of data collection for this measure, Percent of Residents or Patients Who Were Assessed and Appropriately Given the Seasonal Influenza Vaccine (Short Stay) (NQF #0680), including data collection timeframes and associated submission deadlines.”.

B. Corrections of Errors in the Addendum

1. On page 25307, in the table titled “ESTIMATED PROPORTION OF HOSPITAL IN THE WORST-PERFORMING QUARTILE (75TH PERCENTILE) OF THE TOTAL HAC SCORE FOR THE FY 2017 HAC REDUCTION PROGRAM,” the entries for the hospital characteristic “By Teaching Status” are corrected to read as follows:

Hospital characteristic | Number of hospitals ᵃ | Number of hospitals in the worst- performing quartile ᵇ | Percent of hospitals in the worst- performing quartile ᶜ
By Teaching Status: ᶠ
Non-teaching | 2,189 | 398 | 18.2
Fewer than 100 residents | 777 | 230 | 29.6
100 or more residents | 245 | 136 | 55.5

2. On page 25319, first column, first partial paragraph, line 13, the phrase “this measures (NQF #0680),” is corrected to read “this measure, Percent of Residents or Patients Who Were Assessed and Appropriately Given the Seasonal Influenza Vaccine (Short Stay) (NQF #0680),”.

3. On 25322, second column, second full paragraph, line 12, the phrase “LTCHQR Program” is corrected to read “LTCH QRP”.

Dated: June 6, 2016.
Madhura Valverde,
Executive Secretary to the Department, Department of Health and Human Services.

[FR Doc. 2016-13685 Filed 6-6-16; 4:15 pm]

BILLING CODE 4120-01-P